DEPARTMENT OF DEFENSE

GENERAL SERVICES ADMINISTRATION

NATIONAL AERONAUTICS AND SPACE ADMINISTRATION

[OMB Control No. 9000-0113]

Federal Acquisition Regulation; Information Collection; Acquisition of Helium

AGENCIES: Department of Defense (DOD), General Services Administration (GSA), and National Aeronautics and Space Administration (NASA).

ACTION: Notice of request for comments regarding an extension to an existing OMB clearance (9000-0113).

SUMMARY: Under the provisions of the Paperwork Reduction Act of 1995 (44 U.S.C. Chapter 35), the Federal Acquisition Regulation (FAR) Secretariat will be submitting to the Office of Management and Budget (OMB) a request to review and approve an extension of a currently approved information collection requirement concerning acquisition of helium. The clearance currently expires on February 29, 2008.

Public comments are particularly invited on: Whether this collection of information is necessary for the proper performance of functions of the FAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

DATES: Submit comments on or before February 1, 2008.

ADDRESSES: Submit comments regarding this burden or any other aspect of this collection of information, including suggestions for reducing this burden to the General Services Administration, FAR Secretariat (VIR), 1800 F Street, NW, Room 4035, Washington, DC 20405. Please cite OMB Control No. 9000-0113, Acquisition of Helium, in all correspondence.

FOR FURTHER INFORMATION CONTACT Mr. William Clark, Contract Policy Division, GSA (202) 219-1813.

SUPPLEMENTARY INFORMATION:

A. Purpose

The Helium Act (Pub. L. 86-777) (50 U.S.C. 167, et seq.) and the Department of the Interior's regulations (43 CFR part 3195) on purchase of helium are implemented in the FAR at Subpart 8.5.

The FAR requires contractors to purchase major helium requirements from Federal helium suppliers, to the extent that supplies are available. In addition, the Contractor is required to provide the Contracting Officer the following data within 10 days after the Contractor or subcontractor receives a delivery of helium from a Federal helium supplier: (1) The name of the supplier; (2) The amount of helium purchased; (3) The delivery date(s); and (4) The location where the helium was used. The information is used in administration of certain Federal contracts to ensure contractor compliance with contract clauses. The contracting officer must forward the information to the Department of Interior’s Bureau of Land Management (BLM) within 45 days of the close of each fiscal quarter. The quarterly reports will help BLM verify refined helium sales made to Federal agencies by Federal helium suppliers. Without the information, the required use of Federal helium suppliers cannot be monitored and enforced effectively.

B. Annual Reporting Burden

Respondents: 26.

Responses Per Respondent: 1.

Total Responses: 26.

Hours Per Response: 1.

Total Burden Hours: 26.

Obtaining Copies of Proposals: Requesters may obtain a copy of the information collection documents from the General Services Administration, FAR Secretariat (VIR), Room 4035, 1800 F Street, Washington, DC 20405, telephone (202) 501-4755. Please cite OMB Control No. 9000-0113, Acquisition of Helium, in all correspondence.

Dated: November 16, 2007.
Al Matera,
Director, Office of Acquisition Policy.

[FR Doc. 07-5917 Filed 11-30-07; 8:45 am]

BILLING CODE 6820-EP-S